DEPARTMENT OF TRANSPORTATION

National Highway Traffic Safety Administration

49 CFR Part 571

[Docket No. NHTSA-2004-18794]

RIN 2127-AK85

Federal Motor Vehicle Safety Standards No. 108; Lamp, Reflective Devices and Associated Equipment

AGENCY: National Highway Traffic Safety Administration (NHTSA), DOT.

ACTION: Final rule; response to petitions for reconsideration.

SUMMARY: This document responds to seven petitions for reconsideration submitted regarding our August 2004 final rule that amended the Federal motor vehicle safety standard on lamps, reflective devices, and associated equipment. After careful review of the petitions, we are revising certain requirements of the standard pertaining to the visibility of lamps mounted on motorcycles to increase the compatibility of our visibility requirements with those of the United Nations Economic Commission for Europe (ECE R53). We are otherwise denying the petitions.

DATES: Effective date: The final rule is effective May 27, 2011 except for the revision at instruction number 3, which is effective December 1, 2012. Petitions for reconsideration of the final rule must be received not later than June 13, 2011.

ADDRESSES: Any petitions for reconsideration should refer to the docket number of this document and be submitted to: Administrator, National Highway Traffic Safety Administration, U.S. Department of Transportation, 1200 New Jersey Avenue, SE., West Building, Washington, DC 20590.

FOR FURTHER INFORMATION CONTACT: For non-legal issues, you may call Mr. Markus Price, Office of Crash Avoidance Standards (Phone: 202-366-0098; FAX: 202-366-7002).

For legal issues, you may call Mr. Thomas Healy, Office of the Chief Counsel (Phone: 202-366-2992; FAX: 202-366-3820).

You may send mail to these officials at: National Highway Traffic Safety Administration, 1200 New Jersey Avenue, SE., Washington, DC 20590.

SUPPLEMENTARY INFORMATION:

Table of Contents

I. Background

II. Petitions for Reconsideration

III. Agency Analysis and Decision

IV. Effective Dates and Compliance Dates

V. Conclusion

VI. Rulemaking Analyses and Notices

I. Background

The National Highway Traffic Safety Administration (NHTSA) issued a Notice of Proposed Rulemaking (NPRM) in 1995 to address a petition from the Groupe de Travail Working Party “Brussels 1952” (GTB).¹ The petitioner asked the agency to harmonize the U.S. visibility requirements with the United Nations Economic Commission for Europe (UNECE or ECE) requirements. As a result, the agency published a proposal that included several aspects of harmonization including visibility of reflex reflectors (front side, rear, rear side, intermediate), side markers (front, rear, intermediate), front turn, rear turn, stop, front parking, tail, rear fog, high mount stop, and daytime running lamps. In addition, the agency requested comments on allowing amber rear side markers and regulating front and rear fog lamps.

¹ See 60 FR 54833 October 26, 1995.

In response to comments received, the agency followed the NPRM with a Supplementary Notice of Proposed Rulemaking (SNPRM) ² in 1998 that limited the scope to only visibility and terminated proposed rulemaking that would allow an option of providing amber rear side marker lamps and reflectors. The SNPRM proposed using either Society of Automotive Engineers (SAE) or ECE derived visibility requirements. In a separate notice, the issue of regulating front and rear fog lamps was also terminated.³

² See 63 FR 68233 December 10, 1998.

³ See 62 FR 8883 February 27, 1997.

In 2004, NHTSA published a final rule ⁴ that was based on the UNECE derived visibility requirements. Regarding the method of certification, the final rule stated the visibility requirements could be satisfied by meeting a minimum visible area or by a minimum photometric intensity. The final rule set a compliance date of September 1, 2011 for vehicles that are less than 2032 mm in overall width, and September 1, 2014 for vehicles that are 2032 mm or more in overall width.⁵

⁴ See 69 FR 48805 August 11, 2004.

⁵ Dual dimension (80 in) has not been added because it does not appear in the regulation text S5.3.2(b) which is the primary area of interest for this background.

II. Petitions for Reconsideration

Seven petitions for reconsideration were received from automotive manufacturers, lighting suppliers, and motorcycle manufacturers. Petitions for reconsideration were received from the Motor and Equipment Manufacturers Association (MEMA), the Alliance of Automobile Manufacturers (AAM), General Motors (GM), Sierra Products, North American Lighting (NAL), Harley Davidson, and the Motorcycle Industry Council (MIC). Among the seven petitions, six issues were raised that requested reconsideration of the final rule. In addition, there were also several requests, which could be characterized as clarifications, related to the final rule that did not specifically request a rule change. Finally, several general questions were received that are related to FMVSS No. 108 but which are not directly related to the final rule. These items are all summarized below.

1. Issue Regarding Harmonization of FMVSS No. 108 With ECE Regulation No. 53 (ECE R53) for Vehicles With Less Than 4 Wheels

Two petitions for reconsideration were received regarding the visibility requirements of motorcycles from Harley Davidson and MIC. Both of these petitioners supported the goal of standards harmonization, however they argued that the requirements in the final rule did not harmonize with the ECE R53 standard for motorcycles. Specifically, both petitioners stated that ECE R53 allows a narrower field of visibility for front and rear turn signal lamps, and for multiple lamp stop configurations on motorcycles. Additionally, both petitioners recommended decreasing the inboard visibility for motorcycle turn signal lamps from 45 degrees to 20 degrees. They also recommended decreasing the inboard visibility for multiple lamp stop configurations from 45 degrees to 10 degrees.

2. Issue Whether New Definition for the Effective Projected Luminous Lens Area Changes the Existing Requirements

MEMA, AAM, and GM claimed that the new definition for the “effective luminous lens area” would influence lamps designed before this final rule was effective. GM requested that the new definition not become mandatory until the new visibility requirements become mandatory on September 1, 2011, or September 1, 2014 depending on the width of the vehicle. AAM requested that the new definition for effective projected luminous lens area apply only to vehicles certified to the new visibility requirements. MEMA objected to what it believes was a lack of notice in changing the definition, as well as the lead time for compliance with the new definition. MEMA also objected to the exclusion of transparent lenses in the calculation of the effective projected luminous lens area.

3. The Lead Time for Wide Vehicles

MEMA petitioned that the lead time be increased to at least 15 years for wide vehicles. MEMA focused on two major points, the first being that NHTSA “ignored the substantial cost this rule will impose on lighting suppliers in the heavy vehicle segment.” MEMA also stated that “the final rule provides no demonstrated safety benefits.”

4. Compliance Method Choice Is Irrevocable

MEMA also petitioned that the manufacturer's choice of compliance method should not be irrevocable. MEMA stated that this will limit the selection of catalog lamps that a manufacturer can choose from in the event of an interruption in the supply of the originally certified lamp. MEMA also stated that the safety neutrality of the compliance method makes enforcement of this regulation impossible.

5. Requirements for Lamps Mounted Less Than 750 mm Above the Road Surface

MEMA and NAL both petitioned that the photometric requirements of lamps mounted less than 750 mm above the roadway should be clarified. NAL pointed out that the preamble seems to include side marker and clearance lamps in the 750 mm rule, but the regulation text specifies signal lamps and reflective devices. NAL requested that the requirements for side marker and clearance lamps mounted less than 750 mm above the road surface be made clear.

6. Requirements for Lamps Mounted 15″ Above the Road Surface

Sierra Products suggested that the agency further reduce the photometric requirements of lamps mounted 15 inches above the roadway, on the basis that a reduction in required light below Horizontal-Vertical (H-V) could allow for a more economical lamp.

7. Additional Questions That Do Not Request a Rule Change, or Are Not Part of This Rulemaking

Sierra Products asked several questions that do not request a specific rule change. In addition, Sierra Products also asked questions that are not part of this rulemaking. Among those questions, Sierra Products asked why the spacing, position, and color harmonization was abandoned. Also, Sierra Products asked for clarification as to the meaning of “apparent surface” as it was used in the preamble to the final rule. Among other clarification type questions, Sierra Products asked if large vehicle H-V area requirements changed as part of the final rule, and how the area compliance option will be tested for compliance. They also asked why big rigs and boat and utility trailers need reduced constraints on styling for aerodynamic purposes.

Sierra Products asked several questions that are related to FMVSS No. 108, but are not part of this rulemaking. Those included a question about clearance lamp requirements. Sierra Products asked “how can a big rig clearance light that is only effective at auto eye level be seen and understood by following, or passing auto traffic if it is allowed to be mounted 12 feet high and have no inboard photometric output?” They also asked about the use of the latest SAE standards within FMVSS No. 108. In addition, Sierra Products asked for clarification as to the meaning of a multiple compartment lamp, and if a LED is considered a separate lamp. Continuing, Sierra Products asked “where have you discussed in this harmonization proposal that an advertised 100,000 hour LED doesn't hold up when its circuitry is heated or moistened, and who's responsible for the safety implications when a big rig or utility trailer $30 replacement LED brake or turn light can't be found anywhere?” Finally, Sierra Products asked the status of other rulemakings unrelated to the final rule.

III. Discussion and Analysis

1. Issue Regarding Harmonization of FMVSS No. 108 With ECE Regulation No. 53 (ECE R53) for Vehicles With Less Than 4 Wheels

The agency has considered the issue raised by Harley Davidson and MIC that the final rule failed to harmonize motorcycle lamp visibility with the ECE regulations. MIC stated that it believes the interests of harmonization will be better served by recognizing and harmonizing with the existing ECE regulations for motorcycle lighting. Harley Davidson stated that the agency's failure to incorporate ECE R53 within the final rule means that designs, standard and appropriate throughout the world, may not be able to be used in the U.S. NHTSA has evaluated the merits of this request in connection with harmonization and ensuring safety. In the final rule, we explained our general approach to harmonize the U.S. lamp visibility requirements with the ECE requirements and to increase the field of view of signal lamps.

Specifically for motorcycles, prior to the compliance date specified by the August 2004 final rule, turn signals lamps are required to be visible through a horizontal angle starting at 0 degrees inboard (directly in front of the lamp) and continuing to 45 degrees outboard. The final rule added a vertical component to the field of visibility and increased the horizontal angle to 45 degrees inboard and 45 degrees (area option) or 80 degrees (intensity option) outboard depending on the choice of visibility options. MIC's petition for reconsideration requested that, for motorcycles, the inboard horizontal angle match the requirements in ECE R53, which is 20 degrees inboard. NHTSA considers MIC's petition regarding motorcycle turn signal lamp visibility an improvement over the 2004 final rule as it better harmonizes these requirements with the well established safety standard used in various parts of the world without an expected decrease in safety.

In addition, prior to the compliance date specified by the August 2004 final rule, stop lamps mounted on motorcycles are required to be visible through a horizontal angle 45 degrees inboard to 45 degrees outboard. The 2004 rule added a vertical component to the required field of view. MIC requested that to further harmonize these motorcycle requirements with those of ECE R53, NHTSA should decrease the inboard angle requirement for a two stop lamp configuration. MIC noted that ECE R53 requires, for a two stop lamp configuration, that each lamp meet a horizontal visibility angle of 10 degrees inboard. Because the separation between stop lamps is typically small for motorcycles, NHTSA agrees that harmonizing the inboard visibility requirement is not expected to have a negative impact on safety.

Accordingly, this notice adopts visibility requirements for motorcycle lamps based on the ECE R53 regulation.⁶ The standard is modified, establishing visibility requirements for motorcycles defined by the following corner points:

⁶ ECE R53 Revision 2 “Uniform Provisions Concerning the Approval of Category L3 Vehicles with Regard to the Installation of Lighting and Light Signaling Devices.”

Turn Signal | 15 deg. UP-20 deg. IB | 15 deg. UP-80 deg. OB.
| 15 deg. DOWN-20 deg. IB | 15 deg. DOWN-80 deg. OB.
Stop | 15 deg. UP-45 deg. RIGHT | 15 deg. UP-45 deg. LEFT.
| 15 deg. DOWN-45 deg. RIGHT | 15 deg. DOWN-45 deg. LEFT.
Tail | 15 deg. UP-80 deg. RIGHT | 15 deg. UP-80 deg. LEFT.
| 15 deg. DOWN-80 deg. RIGHT | 15 deg. DOWN-80 deg. LEFT.

Two footnotes are added to both Table V-b and Table V-c as follows:

If a multiple lamp arrangement is used for a motorcycle stop lamp, the inboard angle for each lamp shall be 10 degrees.

If a multiple lamp arrangement is used for a motorcycle tail lamp, the inboard angle for each lamp shall be 45 degrees.

2. Issue Whether New Definition for the Effective Projected Luminous Lens Area Changes the Existing Requirements

MEMA, AAM, and GM claimed that a modified definition for the effective projected luminous lens area changed requirements that were not intended to be changed in the final rule, and petitioned for relief by either a longer lead time, that the definition only apply to vehicles certified to the new visibility requirements, or that the definition be reverted back to its original form. The agency does not agree with the petitioners, nor the suggestions for relief. Instead, we believe that the definition published in the final rule only clarified the definition and that the definition itself did not establish any new requirements.

The definition prior to the final rule stated: “Effective projected luminous lens area means the area of the projection on a plane perpendicular to the lamp axis of the portion of the light-emitting surface that directs light to the photometric test pattern, and does not include mounting hole bosses, reflex reflector area, beads or rims that may glow or produce small areas of increased intensity as a result of uncontrolled light from small areas (½ deg. Radius around the test point).”

The final rule separated this definition into two parts to more specifically define the meaning of the light-emitting surface. It reads as follows:

“Effective light-emitting surface means that portion of a lamp that directs light to the photometric test pattern, and does not include transparent lenses, mounting hole bosses, reflex reflector area, beads or rims that may glow or produce small areas of increased intensity as a result of uncontrolled light from an area of ½ degree radius around a test point.”

“Effective projected luminous lens area means the area of the orthogonal projection of the effective light-emitting surface of a lamp on a plane perpendicular to a defined direction relative to the axis of reference. Unless otherwise specified, the direction is coincident with the axis of reference.”

This definition clarification has two major aspects. First it clarifies that “projection on a plane” means an orthogonal projection. This clarifies, but does not change, the previous definition. The final rule stated that “we believe these two phrases have the same meaning * * * the term orthogonal projection has greater clarity.” ⁷ The second aspect is the addition of the words “and does not include transparent lenses.” This exclusion of transparent lenses is not new with this definition as it reflects a previous agency interpretation letter to Mr. Shigeyoshi Aihara on June 14, 2000.⁸ As explained in this interpretation letter, transparent lenses are excluded because they do not direct light, they simply allow light to pass through them freely. Similarly, the dictionary defines transparent as “having the property of transmitting light without appreciable scattering * * *” ⁹ In consideration of these factors, the agency believes that no significant change in the method by which the effective luminous lens area is calculated has been made by this final rule. As such, there is no reason to delay the effective date as requested by GM, nor to apply this clarified definition only to vehicles certified to the new visibility requirements of the final rule. Likewise, the agency does not agree that a lack of notice was provided. As such, the agency is denying the requests from MEMA, AAM, and GM.

⁷ See FR 48812 August 11, 2004.

⁸ Available at http://isearch.nhtsa.gov/files/20836.ztv.html.

⁹ Webster's Third New International Dictionary.

3. The Lead Time for Wide Vehicles

MEMA petitioned to adopt a lead time of 15 years for wide vehicles because it believes that NHTSA underestimated the costs. The agency disagrees. The final rule permitted an alternative method of compliance until September 1, 2011 for vehicles less than 2032 mm in overall width, or until September 1, 2014 for vehicles of 2032 mm or more in width. Effectively, this provided the wider vehicles a lead time of 10 years, and 7 years for the more narrow vehicles. The agency believes that the lead time provided is adequate and notes that no new data was submitted indicating manufacturing costs, design constraints, or other information that the agency could evaluate. Similarly, the agency notes that unanticipated design changes would likely be limited to the lamps only, not to the entire vehicle, as was described in the final rule.¹⁰ In consideration of these factors, the agency is denying this request.

¹⁰ See 69 FR 48811 August 11, 2004.

4. Compliance Method Choice Is Irrevocable

MEMA also requested that the agency eliminate the irrevocable choice of compliance wording from the final rule because it limits the selection of catalog lamps from which a manufacturer can choose. This issue was addressed in the comments based on the SNPRM, and the agency decided to carry the wording from the SNPRM into the final rule. The preamble to the final rule states:

“We continue to believe that when a vehicle manufacturer has certified that the vehicle will meet a visibility requirement with a lamp installed and tested according to a chosen compliance method, the method chosen should be used to determine compliance of that vehicle with the visibility requirements applicable to that lamp. This provision is needed for the agency to effectively carry out its enforcement responsibilities. The agency wants to avoid the situation of a manufacturer confronted with an apparent noncompliance (based on a compliance test) with the option it has selected responding to that noncompliance by maintaining that its products comply with a different option for which the agency has not conducted a compliance test. To ensure that the agency will not be asked to conduct multiple compliance tests, first for one compliance option, then for another. This rule requires the vehicle manufacturer to select the option by the time it certifies the vehicle and prohibits it from thereafter selecting a different option.” ¹¹

¹¹ See 69 FR 48810 August 11, 2004.

We note that vehicle manufacturers certify each vehicle to the Federal motor vehicle safety standards. In the case of a standard with compliance options, the manufacturer is not required to select the same compliance option for similar or even identical vehicles, so long as the vehicle being certified complies with the option selected by the manufacturer. Thus, the requirement that a vehicle manufacturer select a particular compliance option by the time it certifies a vehicle does not limit manufacturer design choices.

Therefore, the agency is denying this request.

5. Requirements for Lamps Mounted Less Than 750 mm Above the Road Surface

MEMA and NAL petitioned the agency to clarify the requirements for lamps mounted less than 750 mm above the road surface. The agency believes that this ambiguity was resolved in the FMVSS No. 108 administrative rewrite final rule.¹² That final rule contains footnotes within the photometric requirements (Table VI a and b, Table VII, Table VIII, Table IX, Table X, Table XI, Table XIII a and b, Table XIV, and Table XVI a) that explicitly state the “photometry requirements below 5° down may be met at 5° down rather than at the specified required downward angle.” Likewise, it also contains similar footnotes within Tables V-b and V-c. Therefore, we believe this request has already been addressed and requires no further action.

¹² See 72 FR 68234 December 4, 2007.

6. Requirements for Lamps Mounted 15 Inches Above the Road Surface

Sierra Products petitioned the agency to eliminate the downward photometric requirements for lamps mounted 15 inches above the road surface. However, the petitioner did not provide any evidence demonstrating that safety would not be compromised, particularly on uneven roadways. The agency notes that the allowance for lamps mounted less than 750 mm above the road surface was created in order to harmonize FMVSS No. 108 visibility requirements with the ECE visibility requirements. The petitioner does not cite, nor does the agency know of, any allowance for lamps mounted 15 inches above the road surface within the ECE regulation. As such, the agency is denying this request.

7. Additional Questions That Do Not Request a Rule Change, or Are Not Part of This Rulemaking

Sierra Products raised several questions that demonstrated a request for clarification. These questions do not request a rule change, and some are not related to this rulemaking. These questions are addressed below.

Sierra Products asked what happened to the proposed harmonization of side marker lamps. The original NPRM did propose allowing rear side markers to be amber in color. This rulemaking proposal was terminated in the SNPRM.13 14 The reasons cited for the termination included major differences in the side marker requirements between the U.S. and European regulations, and the lack of data indicating whether it is important for the drivers to know which end of the vehicle is about to merge into their path.

¹³ See 60 FR 54833 October 26, 1995.

¹⁴ See 63 FR 68233 December 10, 1998.

Sierra Products also asked what is meant by the term “apparent surface” as used in the preamble to the final rule. The term “apparent surface” does not appear in the regulations of FMVSS No. 108. However, it does appear in the discussion “How the ECE Visibility Requirements Differ from the Current Requirements of FMVSS No. 108” of the final rule preamble. This term is a well defined term in ECE No. 48. That document states that “the apparent surface for a defined direction of observation means, at the request of the manufacturer or his duly accredited representative, the orthogonal projection of: Either the boundary of the illuminating surface projected on the exterior surface of the lens or the light-emitting surface.” The precise definition is only in reference to an ECE regulation, and is not required in the discussion of this rule, nor will it be used to determine compliance with FMVSS No. 108.

Regarding Sierra Products' statement that they could not tell if the H-V area requirement was changed for wide vehicles, we note that no effective projected luminous lens area requirements projected in coincidence to the axis of reference were changed with this rulemaking.

Sierra Products asked how NHTSA would check the compliance of the effective projected luminous lens area requirements. We note that NHTSA's Office of Vehicle Safety Compliance (OVSC) provides contractor laboratories with Laboratory Test Procedures as guidelines for obtaining compliance test data. The data is used to determine if a specific vehicle or item of motor vehicle equipment is potentially non-compliant with an applicable FMVSS. The Laboratory Test Procedure for FMVSS No. 108 is available on NHTSA's Web site.¹⁵ It should be noted that the OVSC Laboratory Test Procedures, prepared for the limited purpose of use by independent laboratories under contract to conduct compliance tests for the OVSC, are not rules, regulations or NHTSA interpretations regarding the meaning of a FMVSS, and are not intended to limit the requirements of the applicable FMVSS(s).

¹⁵ Available at http://www.nhtsa.gov/DOT/TP-108-13.pdf.

Finally, Sierra Products inquired as to the status of rulemaking that was not part of this rule. Harmonization rules such as “bulb design, bulb tolerance, weathering, non required lamps, clearance lamps, life span, markings, and replacement light sources” will go through the rulemaking process, as appropriate. The remaining statements and questions proposed by Sierra Products either are not related to the final rule, or do not request a specific rule change.

IV. Effective Dates and Compliance Dates

As noted earlier, the August 2004 final rule set a compliance date of September 1, 2011 for vehicles that are less than 2032 mm in overall width, and September 1, 2014 for vehicles that are 2032 mm or more in overall width. Those compliance dates are not changed by today's rule. There are two effective dates for the amendments we are adopting, one for the current version of FMVSS No. 108 and the second for the FMVSS No. 108 administrative rewrite final rule.

V. Conclusion

For the reasons discussed above, we are granting the requests to make certain changes pertaining to the visibility of lamps mounted on motorcycles to increase the compatability of our visibility requirements with those of the United Nations Economic Commission for Europe (UNECER53), and we are otherwise denying the petitions.

VI. Rulemaking Analyses and Notices

1. Executive Order 12866, Executive Order 13563, and DOT Regulatory Policies and Procedures

NHTSA has considered the impact of this rulemaking action under Executive Order 12866, Executive Order 13563, and the Department of Transportation's regulatory policies and procedures. This rulemaking document was not reviewed by the Office of Management and Budget under E.O. 12866, “Regulatory Planning and Review.” It is not considered to be significant under E.O. 12866 or the Department's regulatory policies and procedures.

2. Privacy Act

Please note that anyone is able to search the electronic form of all documents received into any of our dockets by the name of the individual submitting the document (or signing the document, if submitted on behalf of an association, business, labor union, etc.). You may review DOT's complete Privacy Act Statement in the Federal Register published on April 11, 2000 (Volume 65, Number 70; Pages 19477-78), or you may visit http://www.dot.gov/privacy.html.

3. Other Rulemaking Analyses and Notices

In the August 2004 final rule, the agency discussed relevant requirements related to the Regulatory Flexibility Act, the National Environmental Policy Act, Executive Order 13132 (Federalism), the Unfunded Mandates Reform Act, Civil Justice Reform, the National Technology Transfer and Advancement Act, and the Paperwork Reduction Act. Today's rule does not affect the agency's analyses in those areas.

List of Subjects in 49 CFR Part 571

Imports, Motor vehicle safety, Motor vehicles, and Tires.

In consideration of the foregoing, NHTSA amends 49 CFR Chapter V as set forth below.

PART 571—FEDERAL MOTOR VEHICLE SAFETY STANDARDS

1. The authority citation for part 571 of title 49 continues to read as follows:

Authority: 49 U.S.C. 322, 30111, 30115, 30117, and 30166; delegation of authority at 49 CFR 1.50.

2. Effective May 27, 2011, § 571.108 is amended by revising Figure 19 and Figure 20 to read as follows:

§ 571.108 Standard No. 108; Lamps, reflective devices, and associated equipment.

* * * * *

Figure 19—Visibility of Installed Lighting Devices
[Lens area measurement method]
Item | Corner points ¹ (degrees)
Front Turn Signal Lamp ² | (15U,−45H ⁵), (15U,+45H), (15D,−45H ⁵), (15D,+45H).
Rear Turn Signal Lamp | (15U,−45H ⁵), (15U,+45H), (15D,−45H ⁵), (15D,+45H).
Stop Lamp ³ | (15U,−45H), (15U,+45H), (15D,−45H), (15D,+45H).
Parking Lamp | (15U,−45H), (15U,+45H), (15D,−45H), (15D,+45H).
Taillamp ⁴ | (15U,−45H), (15U,+45H), (15D,−45H), (15D,+45H).
¹ In the horizontal (H) direction, a minus (−) indicates an inwards direction (toward the vehicle's longitudinal centerline) and a plus (+) sign indicates an outward direction.
² Where more than one lamp or optical area is lighted at the front on each side of a multipurpose passenger vehicle, truck trailer, or bus, of 2032 mm. or more overall width, only one such area need comply.
³ If a multiple lamp arrangement is used for a motorcycle stop lamp, the inboard angle for each lamp shall be 10 degrees.
⁴ If a multiple lamp arrangement is used for a motorcycle tail lamp, the inboard angle for each lamp shall be 45 degrees.
⁵ Front and Rear Turn Signal Lamps mounted on a motorcycle, the inboard angle shall be 20 degrees.

Figure 20—Visibility of Installed Lighting Devices
[Luminous intensity measurement method]
Item | Corner points ¹ (degrees) | Minimum luminous intensity (candela)
Front Turn Signal Lamp ² | (15U,−45H ⁵), (15U,+80H), (15D,−45H ⁵), (15D,+80H) | 0.3
Rear Turn Signal Lamp | (15U,−45H ⁵), (15U,+80H), (15D,−45H ⁵), (15D,+80H) | 0.3
Stop Lamp ³ | (15U,−45H), (15U,+45H), (15D,−45H), (15D,+45H) | 0.3
Parking Lamp | (15U,−45H), (15U,+80H), (15D,−45H), (15D,+80H) | 0.05
Taillamp ⁴ | (15U,−45H ²), (15U,+80H), (15D,−45H ²), (15D,+80H) | 0.05
¹ In the horizontal (H) direction, a minus (−) indicates an inwards direction (toward the vehicle's longitudinal centerline) and a plus (+) sign indicates an outward direction.
² −80H° for motorcycles incorporating a single lamp.
³ If a multiple lamp arrangement is used for a motorcycle stop lamp, the inboard angle for each lamp shall be 10 degrees.
⁴ If a multiple lamp arrangement is used for a motorcycle tail lamp, the inboard angle for each lamp shall be 45 degrees.
⁵ Front and Rear Turn Signal Lamps mounted on a motorcycle, the inboard angle shall be 20 degrees.

* * * * *

3. Effective December 1, 2012, § 571.108 is amended by revising Table V-b: Visibility Requirements of Installed Lighting Devices—Lens Area Visibility Option and Table V-c: Visibility Requirements of Installed Lighting Devices—Luminous Intensity Visibility Option, as added at 72 FR 68269 (December 4, 2007), effective September 1, 2008, delayed until December 1, 2009, at 73 FR 50730 (August 28, 2008), and further delayed until December 1, 2012 at 74 FR 58214 (November 12, 2009), to read as follows:

§ 571.108 Standard No. 108; Lamps, reflective devices, and associated equipment.

* * * * *

Table V-b—Visibility Requirements of Installed Lighting Devices—Lens Area Visibility Option
Lighting device | Corner points1 2 |  |  |  | Required visibility
| Motorcycle |  | All other
Turn signal lamp ³ | 15° UP-20° IB | 15° UP-45° OB | 15° UP-45° IB | 15° UP-45° OB | Unobstructed minimum
| 15° DOWN-20° IB | 15° DOWN-45° OB | 15° DOWN-45° IB | 15° DOWN-45° OB | effective projected
Stop lamp | 15° UP-45° RIGHT ⁴ | 15° UP-45° LEFT ⁴ | 15° UP-45° IB | 15° UP-45° OB | luminous lens area
| 15° DOWN-45° RIGHT ⁴ | 15° DOWN-45° LEFT ⁴ | 15° DOWN-45° IB | 15° DOWN-45° OB | of 1,250 sq mm in any
Taillamp | 15° UP-45° RIGHT ⁵ | 15° UP-45° LEFT ⁵ | 15° UP-45° IB | 15° UP-45° OB | direction throughout
| 15° DOWN-45° RIGHT ⁵ | 15° DOWN-45° LEFT ⁵ | 15° DOWN-45° IB | 15° DOWN-45° OB | the pattern defined by
Parking lamp | No Requirement | No Requirement | 15° UP-45° IB | 15° UP-45° OB | the specified corner
| No Requirement | No Requirement | 15° DOWN-45° IB | 15° DOWN-45° OB | points.
¹ IB indicates an inboard direction (toward the vehicle's longitudinal centerline) and OB indicates an outboard direction.
² Where a lamp is mounted with its axis of reference less than 750 mm above the road surface, the vertical test point angles located below the horizontal plane subject to visibility requirements may be reduced to 5° down.
³ Where more than one lamp or optical area is lighted at the front on each side of a multipurpose passenger vehicle, truck, trailer, or bus, of 2032 mm or more overall width, only one such area need comply.
⁴ If a multiple lamp arrangement is used for a motorcycle stop lamp, the inboard angle for each lamp shall be 10 degrees.
⁵ If a multiple lamp arrangement is used for a motorcycle tail lamp, the inboard angle for each lamp shall be 45 degrees.

Table V-c—Visibility Requirements of Installed Lighting Devices—Luminous Intensity Visibility Option
Lighting device | Corner points 1 2 |  |  |  | Required visibility Minimum luminous intensity in any direction throughout the pattern defined by the specified corner points.
| Motorcycle |  | All Other |  | Candela
Turn signal lamp | 15° UP-20° IB | 15° UP-80° OB | 15° UP-45° IB | 15° UP-80° OB | 0.3
| 15° DOWN-20° IB | 15° DOWN-80° OB | 15° DOWN-45° IB | 15° DOWN-80° OB
Stop lamp | 15° UP-45° RIGHT ⁴ | 15° UP-45° LEFT ⁴ | 15° UP-45° IB | 15° UP-45° OB | 0.3
| 15° DOWN-45° RIGHT ⁴ | 15° DOWN-45° LEFT ⁴ | 15° DOWN-45° IB | 15° DOWN-45° OB
Taillamp ³ | 15° UP-80° RIGHT ⁵ | 15° UP-80° LEFT ⁵ | 15° UP-45° IB | 15° UP-80° OB | 0.05
| 15° DOWN-80° RIGHT ⁵ | 15° DOWN-80° LEFT ⁵ | 15° DOWN-45° IB | 15° DOWN-80° OB
Parking lamp | No Requirement | No Requirement | 15° UP-45° IB | 15° UP-80° OB | 0.05
| No Requirement | No Requirement | 15° DOWN-45° IB | 15° DOWN-80° OB
¹ IB indicates an inboard direction (toward the vehicle's longitudinal centerline) and OB indicates an outboard direction.
² Where a lamp is mounted with its axis of reference less than 750 mm above the road surface, the vertical test point angles located below the horizontal plane subject to visibility requirements may be reduced to 5° down
³ Inboard and outboard corner points are 80° for a single taillamp installed on a motorcycle
⁴ If a multiple lamp arrangement is used for a motorcycle stop lamp, the inboard angle for each lamp shall be 10 degrees.
⁵ If a multiple lamp arrangement is used for a motorcycle tail lamp, the inboard angle for each lamp shall be 45 degrees.

Issued on: March 23, 2011.
David L. Strickland,
Administrator.

[FR Doc. 2011-10031 Filed 4-26-11; 8:45 am]

BILLING CODE 4910-59-P